DEPARTMENT OF ENERGY

Federal Energy Regulatory Commission

[Project No. 7742-007]

Steve Mason Enterprises, Inc., Green Energy Trans, LLC; Notice of Transfer of Exemption

1. Pursuant to section 4.106(i) of the Commission's regulations,¹ Steve Mason Enterprises, Inc., exemptee for the Long Shoals Project No. 7742,² informed the Commission that it transferred ownership of its exempted project property and facilities for Project No. 7742 to Green Energy Trans, LLC.³ The project is located on the South Fork Catawba River in Lincoln County, North Carolina. The transfer of an exemption does not require Commission approval.⁴

¹ 18 CFR 4.106(i) (2011).

² The Commission issued an exemption from licensing for Project No. 7742 on July 19, 1984. Long Shoals Hydro, Inc., 28 FERC ¶ 62,067 (1984).

³ See filing of May 26, 2011 from Steve Mason Enterprises, Inc.

⁴ E.g., John C. Jones, 99 FERC ¶ 61,372, at 62,580 n.2 (2002).

2. Green Energy Trans, LLC, located at 227 Pilch Road, Troutman, North Carolina, is now the exemptee of the Long Shoals Project No. 7742.

Dated: August 5, 2011.
Kimberly D. Bose,
Secretary.

[FR Doc. 2011-20432 Filed 8-10-11; 8:45 am]

BILLING CODE 6717-01-P